DEPARTMENT OF HOMELAND SECURITY

Federal Emergency Management Agency

44 CFR Part 67

[Docket ID FEMA-2008-0020; Internal Agency Docket No. FEMA-B-1047]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before August 24, 2009.

ADDRESSES: The corresponding preliminary Flood Insurance Rate Map (FIRM) for the proposed BFEs for each community are available for inspection at the community's map repository. The respective addresses are listed in the table below.

You may submit comments, identified by Docket No. FEMA-B-1047, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151, or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Harvey County, Kansas, and Incorporated Areas
Sand Creek | Approximately 865 feet upstream of Northeast 24th Street | +1436 | +1434 | City of North Newton.
| Approximately 1,590 feet upstream of Northeast 24th Street | +1437 | +1435
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of North Newton
Maps are available for inspection at 2601 North Main Street, North Newton, KS 67117.
Dukes County, Massachusetts, and Incorporated Areas
Atlantic Ocean | Along the shoreline of the Atlantic Ocean between Gilberts Cove and Quenames Cove | +7 | +11 | Town of Chilmark.
Atlantic Ocean | Along the shoreline of the Atlantic Ocean between Paqua Pond and Jobs Neck Pond | None | +9 | Town of Edgartown.
Atlantic Ocean | Along the shoreline of the Atlantic Ocean between Long Cove and Homer Road | None | +9 | Town of West Tisbury.
Vineyard Sound | Along the shoreline of Vineyard Sound approximately 300 feet East of the intersection of Lobsterville Road and West Basin Road | +8 | +9 | Town of Aquinnah.
Vineyard Sound | Along the shoreline of Vineyard Sound between Farm Pond and Hamlin Pond | None | +12 | Town of Oak Bluffs.
Vineyard Sound | Along the shoreline of Vineyard Sound between Algonquin Avenue to Yacht Club Lane | None | +12 | Town of Tisbury.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Aquinnah
Maps are available for inspection at the Town Hall, 65 State Road, Aquinnah, MA 02535.
Town of Chilmark
Maps are available for inspection at the Town Hall, 401 Middle Road, Chilmark, MA 02535.
Town of Edgartown
Maps are available for inspection at the Town Hall, 70 Main Street, Edgartown, MA 02539.
Town of Oak Bluffs
Maps are available for inspection at the Town Hall, 56 School Street, Oak Bluffs, MA 02557.
Town of Tisbury
Maps are available for inspection at the Town Hall, 51 Spring Street, Vineyard Haven, MA 02568.
Town of West Tisbury
Maps are available for inspection at the Town Hall, 1059 State Road, West Tisbury, MA 02575.
Kennebec County, Maine, and Incorporated Areas
China Lake | Along the entire shoreline | None | +199 | Town of Albion.
China Lake | Along the entire shoreline | None | +199 | Town of Vassalboro.
Kezar Brook | At the mouth of Cobboseecontee Lake | None | +169 | Town of Winthrop.
| Just downstream of South Road | None | +169
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Albion
Maps are available for inspection at the Town Office, 22 Main Street, Albion, ME 04910.
Town of Vassalboro
Maps are available for inspection at the Town Hall, 682 Main Street, North Vassalboro, ME 04989.
Town of Winthrop
Maps are available for inspection at the Town Hall, 17 Highland Avenue, Winthrop, ME 04364.
Pike County, Mississippi, and Incorporated Areas
Tangipahoa River | Approximately 0.68 miles downstream of Highway 575 | None | +233 | Town of Osyka.
| Approximately 1,100 feet downstream of Highway 575 | None | +236
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Osyka
Maps are available for inspection at 215 West Liberty Street, Osyka, MS 39648.
Muskingum County, Ohio, and Incorporated Areas
Moxahala Creek | Approximately 1,300 feet downstream of Ransbottom Road | None | +734 | Unincorporated Areas of Muskingum County.
| Approximately 500 feet downstream of East 1st Street | None | +735
Muskingum River | Approximately 0.4 mile downstream of E Muskingum Avenue (State Route 208) | +714 | +718 | Village of Dresden.
| At confluence with Wakatomika Creek | +716 | +720
Muskingum River | Approximately 0.6 mile downstream of confluence with Salt Creek | None | +683 | Village of Philo.
| Approximately 0.5 mile upstream of confluence with Salt Creek | None | +685
Wakatomika Creek | Approximately 0.5 mile downstream of Main Street | +719 | +720 | Unincorporated Areas of Muskingum County.
| Approximately 1,400 feet downstream of Frazeysburg Road | +719 | +725
Wakatomika Creek | Approximately 0.6 mile downstream of Shannon Road | None | +745 | Unincorporated Areas of Muskingum County, Village of Frazeysburg.
| Just downstream of Canal Road | None | +751
Wakatomika Creek | Approximately 0.5 mile downstream of Main Street | None | +720 | Village of Dresden.
| Approximately 0.4 mile downstream of Frazeysburg Road | None | +725
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Muskingum County
Maps are available for inspection at 401 Main Street, Zanesville, OH 43701.
Village of Dresden
Maps are available for inspection at 904 Chestnut Street, Dresden, OH 43821.
Village of Frazeysburg
Maps are available for inspection at 7 West Second Street, Frazeysburg, OH 43822.
Village of Philo
Maps are available for inspection at 300 Main Street, Philo, OH 43771.
Macon County, Tennessee, and Incorporated Areas
Salt Lick Creek | Approximately 1,965 feet upstream of State Highway 151 | None | +778 | Unincorporated Areas of Macon County.
| Approximately 1,624 feet upstream of State Highway 151 | None | +778
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Macon County
Maps are available for inspection at 201 County Courthouse, Lafayette, TN 37083.
Ector County, Texas, and Incorporated Areas
Flooding Effects of Eastside Channel and its Split Flow | Just downstream of the Pacific Union Railroad | None | +2887 | Unincorporated Areas of Ector County, City of Odessa.
| Just downstream of Pueblo Avenue | None | +2906
| Approximately 200 feet upstream of the intersection of Custer Avenue and Eastside Channel | None | +2912
Flooding Effects of Monahans Draw | Just upstream of Grandview Road | None | +2842 | Unincorporated Areas of Ector County.
| Just upstream of South Crane Avenue | None | +2878
| Just upstream of West County Road | None | +2884
| Just upstream of Westcliff Drive | None | +3009
| Just upstream of State Highway 866 | None | +3043
Flooding effects of Far East Channel and its subsidiary channels | At the confluence of East Side Channel | None | +2857 | Unincorporated Areas of Ector County, City of Odessa.
| Approximately 450 feet upstream of the intersection of Caliche Road | None | +2899
| Just upstream of Maple Avenue | None | +2907
Flooding effects of West Side Drainage Channel | At the confluence of Monahans Draw | None | +2896 | City of Odessa.
| Just upstream of West 16th Street | None | +2909
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Odessa
Maps are available for inspection at 411 West 8th Street, Odessa, TX 79761.
Unincorporated Areas of Ector County
Maps are available for inspection at 521 North Texas Street, Odessa, TX 79761.

(Catalog of Federal Domestic Assistance No. 97.022, “Flood Insurance.”)

Dated: May 14, 2009.
Deborah S. Ingram,
Acting Deputy Assistant Administrator for Mitigation, Mitigation Directorate, Department of Homeland Security, Federal Emergency Management Agency.

[FR Doc. E9-12105 Filed 5-22-09; 8:45 am]

BILLING CODE 9110-12-P